DEPARTMENT OF TRANSPORTATION

Federal Aviation Administration

14 CFR Part 39

[Docket No. FAA-2017-0283; Directorate Identifier 2017-CE-009-AD; Amendment 39-18849; AD 2017-07-10]

RIN 2120-AA64

Airworthiness Directives; American Champion Aircraft Corp.

AGENCY: Federal Aviation Administration (FAA), DOT.

ACTION: Final rule; request for comments.

SUMMARY: We are adopting a new airworthiness directive (AD) for certain American Champion Aircraft Corp. Model 8KCAB airplanes. This AD requires fabrication and installation of a placard to prohibit aerobatic flight, inspection of the aileron hinge rib and support, and a reporting requirement of the inspection results to the FAA. This AD was prompted by a report of a cracked hinge support and cracked hinge ribs, which resulted in partial loss of control with the aileron binding against the cove. We are issuing this AD to correct the unsafe condition on these products.

DATES: This AD is effective April 12, 2017.

The Director of the Federal Register approved the incorporation by reference of a certain publication listed in this AD as of April 12, 2017.

We must receive comments on this AD by May 30, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact American Champion Aircraft Corp., P.O. Box 37, 32032 Washington Ave., Rochester, Wisconsin 53167; telephone: (262) 534-6315; fax: (262) 534-2395; email: aca-engineering@tds.net; Internet: http://www.americanchampionaircraft.com/service-letters.html. It is also available on the internet at http://www.regulations.gov by searching for and locating Docket No. FAA-2017-0283.

Examining the AD Docket

You may examine the AD docket on the Internet at http://www.regulations.gov by searching for and locating Docket No. FAA-2017-0283; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Wess Rouse, Aerospace Engineer, 2300 East Devon Avenue, Room 107, Des Plaines, Illinois 60018; telephone: (847) 294-8113; fax: (847) 294-7834; email: wess.rouse@faa.gov.

SUPPLEMENTARY INFORMATION:

Discussion

We received a report of an event on an American Champion Aircraft Corp. Model 8KCAB airplane. In this event the pilot reported a stuck aileron during some phases of flight. The pilot was able to “un-stick” the aileron and land the airplane. Upon inspection, the operator found cracked structure around several of the aileron hinges. This AD was prompted by a report of a cracked hinge support and cracked hinge ribs, which resulted in partial loss of control with the aileron binding against the cove. This condition, if not corrected, could result in failure of the aileron support structure; leading to excessive deflection, binding of the control surface, and potential loss of control. We are issuing this AD to correct the unsafe condition on these products.

Related Service Information Under1 CFR Part 51

We reviewed American Champion Aircraft Corp. Service Letter 442, dated February 16, 2017. The service information describes procedures for initial and repetitive inspections of the aileron hinge rib and support. This service information is reasonably available because the interested parties have access to it through their normal course of business or by the means identified in the ADDRESSES.

FAA's Determination

We are issuing this AD because we evaluated all the relevant information and determined the unsafe condition described previously is likely to exist or develop in other products of the same type design.

AD Requirements

This AD requires accomplishing the actions specified in the service information described previously, except as discussed under “Differences Between the AD and the Service Information.” This AD also requires sending the inspection results to the FAA so that appropriate FAA-approved repair action can be incorporated and the information can be evaluated for any possible future inspections or modifications.

Differences Between the AD and the Service Information

American Champion Aircraft Corp. Service Letter (SL) 442, dated February 16, 2017, requires repetitive inspections. The FAA has not determined whether these intervals are appropriate. This AD includes fabrication and installation of a placard limiting aerobatic flight for the 10 flight hours allowed prior to the inspection. The service information does not contain such a placard limitation. The service information requires reporting inspection results to American Champion. This AD requires reporting of inspection results to the FAA. The service information does not address corrective actions if cracks are found. This AD will not allow further flight for airplanes with known cracks. The actions required by this AD take precedence over the service information.

FAA's Justification and Determination of the Effective Date

An unsafe condition exists that requires the immediate adoption of this AD. The FAA has found that the risk to the flying public justifies waiving notice and comment prior to adoption of this rule because these cracks can lead to a loss of control and current evidence suggests they are growing rapidly. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2017-0283 and Directorate Identifier 2017-CE-009-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 64 airplanes of U.S. registry.

We estimate the following costs to comply with this AD:

Estimated Costs
Action | Labor cost | Parts cost | Cost per product | Cost on U.S. operators
Fabrication of placard, inspection of aileron hinge rib and support, and report of findings to the FAA | 2 work-hours × $85 per hour = $170.00 | $100 | $270.00 | $17,280

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-07-10 American Champion Aircraft Corp.: Amendment 39-18849; Docket No. FAA-2017-0283; Directorate Identifier 2017-CE-009-AD.

(a) Effective Date

This AD is effective April 12, 2017.

(b) Affected ADs

None.

(c) Applicability

This AD applies to the following American Champion Aircraft Corp. Model 8KCAB airplanes that are certificated in any category:

(i) Serial numbers 1116-2012 through 1120-2012, and 1122-2012 and up; and

(ii) any Model 8KCAB airplane equipped with part number 4-2142 exposed balance ailerons.

(d) Subject

Joint Aircraft System Component (JASC)/Air Transport Association (ATA) of America Code 57, Wings.

(e) Unsafe Condition

This AD was prompted by a report of a cracked hinge support and cracked hinge ribs, which resulted in partial loss of control with the aileron binding against the cove. We are issuing this AD to prevent failure of the aileron support structure, which may lead to excessive deflection, binding of the control surface, and potential loss of control.

(f) Compliance

Comply with this AD within the compliance times specified, unless already done.

(g) Restrict Airplane Operation

As of April 12, 2017 (the effective date of this AD), the airplane is restricted to non-aerobatic flight until the actions required in paragraphs (h)(1) through (3) of this AD are done, as applicable. This restriction is done as follows:

(1) Before further flight after April 12, 2017 (the effective date of this AD), fabricate a placard using at least ⅛ inch letters with the words “AEROBATIC FLIGHT PROHIBITED” on it and install the placard on the instrument panel within the pilot's clear view.

(2) This action may be performed by the owner/operator (pilot) holding at least a private pilot certificate and must be entered into the aircraft records showing compliance with this AD in accordance with 14 CFR 43.9 (a)(1)-(4) and 14 CFR 91.417(a)(2)(v). The record must be maintained as required by 14 CFR 91.417, 121.380, or 135.439.

(h) Inspection

(1) Within the next 10 hours time-in-service (TIS) after April 12, 2017 (the effective date of this AD), inspect the aileron hinge rib and support following American Champion Aircraft Corporation Service Letter (SL) 442, dated February 16, 2017.

(2) If no cracks are found, during the inspection required in paragraph (h)(1) of this AD, the placard prohibiting aerobatic flight required in paragraph (g)(1) of this AD can be removed.

(3) If cracks are found during the inspection required in paragraph (h)(1) of this AD, no further flight is permitted until an FAA-approved repair for this AD has been accomplished. There is currently no fix for airplanes with cracks in this area so such airplanes could not be operated until a repair that was FAA-approved specifically for the AD is incorporated.

(4) Within 10 days after the inspection required in paragraph (h)(1) of this AD or within 10 days after April 12, 2017 (the effective date of this AD), whichever occurs later, report the inspection results to the FAA at the Chicago Aircraft Certification Office (ACO). Submit the report to the FAA using the contact information found in paragraph (j) of this AD. Include in the report the following information:

(i) Hours TIS on the airplane since the affected part was installed,

(ii) crack length, and

(iii) location for all cracks found.

(i) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(j) Alternative Methods of Compliance (AMOCs)

(1) The Manager, Chicago ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD.

(2) Before using any approved AMOC, notify your appropriate principal inspector, or lacking a principal inspector, the manager of the local flight standards district office/certificate holding district office.

(k) Related Information

For more information about this AD, contact Wess Rouse, Aerospace Engineer, FAA, Chicago ACO, 2300 East Devon Avenue, Room 107, Des Plaines, Illinois 60018; telephone: (847) 294-8113; fax: (847) 294-7834; email: wess.rouse@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) American Champion Aircraft Corp. Service Letter 442, dated February 16, 2017.

(ii) Reserved.

(3) For American Champion Aircraft Corp. service information identified in this AD, contact American Champion Aircraft Corp., P.O. Box 37, 32032 Washington Ave., Rochester, Wisconsin 53167; telephone: (262) 534-6315; fax: (262) 534-2395; email: aca-engineering@tds.net; Internet: http://www.americanchampionaircraft.com/service-letters.html.

(4) You may view this referenced service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on April 3, 2017.
Melvin Johnson,
Acting Manager, Small Airplane Directorate, Aircraft Certification Service.

[FR Doc. 2017-06960 Filed 4-11-17; 8:45 am]

BILLING CODE 4910-13-P